DEPARTMENT OF THE INTERIOR

Bureau of Land Management

[AK-040-05-1610-DP-086L]

Notice of Availability of the Ring of Fire Draft Resource Management Plan and Environmental Impact Statement

AGENCY: Anchorage Field Office, Bureau of Land Management, Interior.

ACTION: Notice of availability.

SUMMARY: In accordance with the National Environmental Policy Act (NEPA), the Federal Land Policy and Management Act (FLPMA), and the Bureau of Land Management (BLM) management policies, the Ring of Fire Draft Resource Management Plan and Environmental Impact Statement (RMP/EIS) has been prepared for public lands and resources administered by the Bureau of Land Management's Anchorage Field Office The Ring of Fire Draft RMP/EIS will provide the management guidance for resource decisions on 1.3 million acres of fragmented BLM-administered lands spread from below the Dixon Entrance in southeast Alaska to Attu Island at the end of the Aleutian Chain. The Ring of Fire RMP/EIS will revise management direction for approximately 10 percent of the lands covered by the Southcentral Management Framework Plan of 1980, and will provide management for approximately 90 percent of the lands not previously addressed in a management plan.

ADDRESSES: Written comments should be mailed or hand delivered to the BLM Anchorage Field Office, Ring of Fire RMP/EIS, 6881 Abbott Loop Road, Anchorage, Alaska 99507-2599. The public is invited to review and comment on the range and adequacy of the draft alternatives and associated environmental effects. For comments to be most helpful, they should relate to specific concerns or conflicts that are within the legal responsibilities of the BLM and can be resolved in this planning process. Comments can also be sent via e-mail to akrofrmp@blm.gov. To request a CD or hard copy of the document or to be included on the mailing list, contact Amy Lewis via e-mail at Amy_Lewis@urscorp.com, or via phone at (907) 261-9730. Comments, including names and street addresses of respondents, may be published as part of the Final EIS and Proposed RMP. Individual respondents may request confidentiality. If you wish to withhold your name or street address from public review or from disclosure under the Freedom of Information Act, you must state this prominently at the beginning of your written comments. Such requests will be honored to the extent allowed by the law. All submissions from organizations and business, and from individuals identifying themselves as representatives or officials of organizations or businesses will be available for public inspection in their entirety.

DATES: Comments on the Ring of Fire Draft RMP/EIS will be accepted for 90 days following the date the Environmental Protection Agency publishes their Notice of Availability in the Federal Register. Comments on the Ring of Fire Draft RMP/EIS must be received on or before the end of the comment period at the physical address or e-mail address listed above. Specific dates and locations of public meetings to gather public comment will be announced through news releases and notices.

FOR FURTHER INFORMATION CONTACT: Robert Lloyd (akrofrmp@blm.gov) at (907) 267-1246 or Amy Lewis (Amy_Lewis@urscorp.com) at (907) 261-9730.

SUPPLEMENTARY INFORMATION: The Ring of Fire RMP planning area covers 1.3 million acres of BLM-administered lands. The Ring of Fire Draft RMP/EIS focuses on the principles of multiple use and sustained yield as prescribed by section 202 of FLPMA. The Ring of Fire Draft RMP/EIS considers and analyzes four alternatives, including a No Action and a preferred alternative. The alternatives provide variable levels of support to all resources and programs present in the planning area and are designed to guide future management and resolve land management issues identified during the early stages of the planning process. The alternatives were developed based on extensive public scoping and involvement.

There are five main resources addressed through this planning process. The Lands and Realty section addresses the need to determine the appropriate mix of lands and realty actions needed to provide a balance between land use and resource protection. The Off-highway Vehicles (OHV) section addresses management of access trails and roads for the use of OHVs for various purposes, including recreation, commercial uses, subsistence activities, and the general enjoyment of public lands while protecting natural and cultural resources. The Recreation section examines how recreation should be managed to provide a diversity of experiences on BLM-managed lands. The document analyzes what measures are necessary to ensure that a diversity of recreational opportunities is maintained, and what level of commercial recreational use is appropriate to maintain a diversity of recreational opportunities. The Leasable Minerals section and the Locatable Minerals section address the need to determine which areas should be made available for mineral exploration and development One Area of Critical Environmental Concern (ACEC) is recommended for designation in the preferred alternative and is also considered in other alternatives—the Neacola Mountains ACEC, containing approximately 229,000 acres. The ACEC would have the following resource use limitations: (1) Closed to locatable and saleable mineral entry (but open to mineral leasing), (2) OHV use limited, (3) VRM Class III, and (4) ROW avoidance. The public involvement and collaboration process implemented for this effort included 10 public scoping meetings. Notices of these meetings and invitations to participate in the development of this plan were sent to over 400 individuals, organizations, and tribal entities, as well as to State, Federal, and local government agencies. Meetings were held at the Native Village of Eklutna in Eklutna and at the Chilkat Indian Village IRA in Klukwan. Continuous involvement throughout the planning process has taken place with the State of Alaska, and several meetings have been held between the State and the BLM at varying levels of authority to discuss the Ring of Fire RMP/EIS. A joint BLM-State position was created as part of this project, with that person acting as liaison between the State of Alaska and the BLM during this planning process.

After comments on the Ring of Fire Draft RMP/EIS are reviewed and any adjustments to the document are made, a Proposed RMP and Final EIS are expected to be available in spring 2006.

Julia Dougan,
Acting State Director.

[FR Doc. 05-19492 Filed 9-29-05; 8:45 am]

BILLING CODE 4310-JA-P